DEPARTMENT OF HOUSING AND URBAN DEVELOPMENT

[Docket No. FR-5194-N-13]

Notice of Proposed Information Collection for Public Comment; Capital Fund

AGENCY: Office of the Assistant Secretary for Public and Indian Housing, HUD.

ACTION: Notice of proposed information collection.

SUMMARY: HUD will submit the proposal for collection of information described below to the Office of Management and Budget (OMB) for review, as required by the Paperwork Reduction Act. The Department will request this previously approved information collection be extended, and is soliciting public comments on the subject proposal.

DATES: Comments Due Date: November 3, 2008.

ADDRESSES: Interested persons are invited to submit comments regarding this proposal. Comments should refer to the proposal by name/or OMB Control number and should be sent to: Lillian L. Deitzer, Departmental Reports Management Officer, QDAM, Department of Housing and Urban Development, 451 7th Street, SW., Room 4178, Washington, DC 20410-5000; telephone 202.402.8048, (this is not a toll-free number) or e-mail Ms. Deitzer at Lillian.L.Deitzer@hud.gov for a copy of the proposed forms, or other available information.

FOR FURTHER INFORMATION CONTACT: Mary Schulhof, Office of Policy, Programs and Legislative Initiatives, PIH, Department of Housing and Urban Development, 451 7th Street, SW., Room 4116, Washington, DC 20410; telephone 202-708-0713, (this is not a toll-free number).

SUPPLEMENTARY INFORMATION: The Department will request an extension of and submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Public Housing Capital Fund Program.

OMB Control Number: 2577-0157.

Description of the need for the information and proposed use: Public Housing Agencies (PHAs) must provide information to HUD various stages of implementing Capital Fund grant. This grant is used for modernization of existing public housing stock and development of new units, which requires contract administration and construction contracting.

Agency form numbers, if applicable: HUD 50029, HUD 50030, HUD 50070, HUD 50071, HUD 5084, HUD 5087, HUD 51000, HUD 51001, HUD 51002, HUD 51003, HUD 51004, HUD 51915, HUD 51915A, HUD 51971 I, HUD 51971 II, HUD 52396, HUD 52427, HUD 52482, HUD 52483 A, HUD 52484, HUD 52485, HUD 52651 A, HUD 52829, HUD 52830, HUD 52832, HUD 52833, HUD 52845, HUD 52846, HUD 52847, HUD 52849, HUD 53001, HUD 53015, HUD 5370, HUD 5370EZ, HUD 5370C, HUD 5372, HUD 5378, HUD 5460.

Members of affected public: Business or other for-profit, State, Local Government.

Estimation of the total number of hours needed to prepare the information collection including number of respondents: The estimated number of respondents is 3,105 at the total reporting burden is 267,833 hours.

Status of the proposed information collection: Revision of currently approved and new collections to incorporate OMB information collections.

Authority: Section 3506 of the Paperwork Reduction Act of 1995, 44 U.S.C. Chapter 35, as amended.

Dated: August 27, 2008.
Bessy Kong,
Deputy Assistant Secretary for Policy, Programs, and Legislative Initiatives.

[FR Doc. E8-20472 Filed 9-3-08; 8:45 am]

BILLING CODE 4210-67-P